SECURITIES AND EXCHANGE COMMISSION

[Release No. 34-69440; File No. SR-FINRA-2013-002]

Self-Regulatory Organizations; Financial Industry Regulatory Authority, Inc.; Notice of Withdrawal of Proposed Rule Change To Amend FINRA Rule 2267 (Investor Education and Protection)

April 24, 2013.

On January 7, 2013, Financial Industry Regulatory Authority, Inc. (“FINRA”) filed with the Securities and Exchange Commission (“Commission”), pursuant to Section 19(b)(1) of the Securities Exchange Act of 1934 (“Act”) ¹ and Rule 19b-4 thereunder,² a proposed rule change to amend FINRA Rule 2267 (Investor Education and Protection) to require that members include a prominent description of and link to FINRA BrokerCheck, as prescribed by FINRA, on their Web sites, social media pages, and any comparable Internet presence, and on Web sites, social media pages, and any comparable Internet presence relating to a member's investment banking or securities business maintained by or on behalf of any person associated with a member. The proposed rule change was published for comment in the Federal Register on January 25, 2013.³ The Commission received 24 comment letters on the proposal.⁴ On March 7, 2013, the Commission extended the time period in which to either approve the proposed rule change, disapprove the proposed rule change, or institute proceedings to determine whether to disapprove the proposed rule change, to April 25, 2013.⁵ On April 18, 2013, FINRA withdrew the proposed rule change (SR-FINRA-2013-002).

¹ 15 U.S.C. 78s(b)(1).

² 17 CFR 240.19b-4.

³ See Securities Exchange Act Release No. 68700 (Jan. 18, 2013), 78 FR 5542.

⁴ See Letter from Charles Barker, dated Jan. 29, 2013; Letter from David M. Sobel, Esq., Abel/Noser Corp., dated Jan. 30, 2013; Letter from Pamela Albanese, Legal Intern, and Christine Lazaro, Esq., Acting Director, St. John's University School of Law, Securities Arbitration Clinic, dated Feb. 4, 2013; Letter from Peter J. Chepucavage, General Counsel, Plexus Consulting Group, LLC, dated Feb. 6, 2013; Letter from Jonathan W. Evans and Michael S. Edmiston, Jonathan W. Evans Associates, dated Feb. 10, 2013; Letter from Scott R. Shewan, Pape Shewan, LLP, dated Feb. 11, 2013; Letter from David Neuman, Stoltmann Law Offices, dated Feb. 12, 2013; Letter from Barry D. Estell, dated Feb. 12, 2013; Letter from Scott C. Ilgenfritz, President, Public Investors Arbitration Bar Association, dated Feb. 13, 2013; Letter from Bert Savage, dated Feb. 13, 2013; Letter from William A. Jacobson, Esq., Associate Clinical Professor, Cornell Law School, Director, Securities Law Clinic, and Alexander Wingate, Cornell Law School, dated Feb. 14, 2013; Letter from A. Heath Abshure, President, North American Securities Administrators Association, Inc., dated Feb. 15, 2013; Letter from Robert J. McCarthy, Director of Regulatory Policy, Wells Fargo Advisors, LLC, dated Feb. 15, 2013; Letter from Tamara K. Salmon, Senior Associate Counsel, Investment Company Institute, dated Feb. 15, 2013; Letter from David T. Bellaire, Esq., Executive Vice President & General Counsel, Financial Services Institute, dated Feb. 15, 2013; Letter from Scott A. Eichhorn, Supervising Attorney, and Julianne S. Bisceglia, Legal Intern, University of Miami School of Law, Investor Rights Clinic, dated Feb. 15, 2013; Letter from Melissa MacGregor, Managing Director and Associate General Counsel, Securities Industry and Financial Markets Association, dated Feb. 15, 2013; Letter from Brendan Daly, Legal and Compliance Counsel, Commonwealth Financial Network, dated Feb. 15, 2013; Letter from James Cooper, Chief Operating Officer, Zions Direct, dated Feb. 15, 2013; Letter from Melissa Callison, Vice President, Compliance, Charles Schwab & Co., Inc, dated Feb. 15, 2013; Letter from James Smith, Chief Compliance Officer, BlackRock Investments, LLC, Ned Montenecourt, Chief Compliance Officer, BlackRock Capital Markets, LLC, BlackRock Execution Services, and Joanne Medero, Managing Director, BlackRock, Inc., dated Feb. 15, 2013; Letter from Clifford E. Kirsch and Eric A. Arnold, Sutherland Asbill & Brennan LLP, for the Committee of Annuity Insurers, dated Feb. 15, 2013; Letter from Steven B. Caruso, Maddox Hargett Caruso, P.C., dated Feb. 16, 2013; and Letter from Lisa Catalano, Esq., dated Feb. 18, 2013.

⁵ See Securities Exchange Act Release No. 69063, 78 FR 15994 (Mar. 13, 2013).

For the Commission, by the Division of Trading and Markets, pursuant to delegated authority.⁶
⁶ 17 CFR 200.30-3(a)(12).
Kevin M. O'Neill,
Deputy Secretary.

[FR Doc. 2013-10079 Filed 4-29-13; 8:45 am]

BILLING CODE P